DEPARTMENT OF ENERGY

Federal Energy Regulatory Commission

[Docket No. RP00-481-000]

Transcontinental Gas Pipe Line Corporation; Notice of Technical Conference

November 16, 2000.

On August 15, 2000, Transcontinental Gas Pipe Line Corporation (Transco) submitted a filing to comply with Order No. 637. Several parties have protested various aspects of Transco's filing.

Take notice that a technical conference to discuss the various issues raised by Transco's filing will be held on Thursday, December 7, 2000, at 10 a.m., in a room to be designated at the offices of the Federal Energy Regulatory Commission, 888 First Street, NE., Washington, DC 20426. Parties protesting aspects of Transco's filing should be prepared to discuss alternatives.

All interested persons and Staff are permitted to attend.

Linwood A. Watson, Jr.,
Acting Secretary.

[FR Doc. 00-29860 Filed 11-21-00; 8:45 am]

BILLING CODE 6717-01-M